INTERNATIONAL TRADE COMMISSION

[Investigation Nos. 701-TA-482-484 and 731-TA-1191-1194 (Final)]

Circular Welded Carbon-Quality Steel Pipe From India, Oman, The United Arab Emirates, and Vietnam

Determinations

On the basis of the record ¹ developed in the subject investigations, the United States International Trade Commission (Commission) determines, pursuant to sections 705(b) and 735(b) of the Tariff Act of 1930 (19 U.S.C. 1671d(b)) and (19 U.S.C. 1673d(b)) (the Act), that an industry in the United States is not materially injured or threatened with material injury, and the establishment of an industry in the United States is not materially retarded, by reason of imports of circular welded carbon-quality steel pipe from India, Oman, the United Arab Emirates, and Vietnam, provided for in subheading(s) 7306.19, 7306.30, and 7306.50 of the Harmonized Tariff Schedule of the United States, that the U.S. Department of Commerce has determined are subsidized and/or sold in the United States at less than fair value (“LTFV”).²

¹ The record is defined in sec. 207.2(f) of the Commission's Rules of Practice and Procedure (19 CFR 207.2(f)).

² Chairman Irving A. Williamson and Commissioner Dean A. Pinkert dissenting.

Background

The Commission instituted these investigations effective October 26, 2011, following receipt of a petition filed with the Commission and Commerce by Allied Tube and Conduit, Harvey, IL; JMC Steel Group, Chicago, IL; Wheatland Tube, Sharon, PA; and United States Steel Corporation, Pittsburgh, PA. The final phase of the investigations was scheduled by the Commission following notification of preliminary determinations by Commerce that imports of circular welded carbon-quality steel pipe from India, Oman, the United Arab Emirates, and Vietnam were subsidized and/or dumped within the meaning of section 703(b) of the Act (19 U.S.C. 1671b(b)) and 733(b) of the Act (19 U.S.C. 1673b(b)).³ Notice of the scheduling of the final phase of the Commission's investigations and of a public hearing to be held in connection therewith was given by posting copies of the notice in the Office of the Secretary, U.S. International Trade Commission, Washington, DC, and by publishing the notice in the Federal Register on June 22, 2012 (77 FR 37711). The hearing was held in Washington, DC, on October 17, 2012, and all persons who requested the opportunity were permitted to appear in person or by counsel.

³ Following a final negative countervailing duty determination with respect to circular welded carbon-quality steel pipe from Vietnam (77 FR 64471, October 22, 2012), the Commission terminated investigation No. 701-TA-485 (77 FR 65712, October 30, 2012).

The Commission transmitted its determinations in these investigations to the Secretary of Commerce on December 5, 2012. The views of the Commission are contained in USITC Publication 4362 (December 2012), entitled Circular Welded Carbon-Quality Steel Pipe from India, Oman, the United Arab Emirates, and Vietnam: Investigation Nos. 701-TA-482-484 and 731-TA-1191-1194 (Final).

By order of the Commission.
Issued: December 6, 2012.
Lisa R. Barton,
Acting Secretary to the Commission.

[FR Doc. 2012-29839 Filed 12-10-12; 8:45 am]

BILLING CODE 7020-02-P